DEPARTMENT OF THE INTERIOR

National Park Service

[NPS-WASO-NAGPRA-22961; PPWOCRADN0-PCU00RP14.R50000]

Notice of Inventory Completion: Museum of Northern Arizona, Flagstaff, AZ

AGENCY: National Park Service, Interior.

ACTION: Notice.

SUMMARY: The Museum of Northern Arizona has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Museum of Northern Arizona. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Museum of Northern Arizona at the address in this notice by April 12, 2017.

ADDRESSES: Elaine Hughes, Museum of Northern Arizona, 3101 North Fort Valley Road, Flagstaff, AZ 86001, telephone (928) 774-5211 x228, email ehughes@musnaz.org.

SUPPLEMENTARY INFORMATION: Notice is here given in accordance with the Native American Graves Protection and Repatriation Act (NAGPRA), 25 U.S.C. 3003, of the completion of an inventory of human remains under the control of the Museum of Northern Arizona, Flagstaff, AZ. The human remains were removed from the Van Liere Site, Maricopa County, AZ.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Museum of Northern Arizona professional staff in consultation with representatives of the Ak-Chin Indian Community (previously listed as the Ak Chin Indian Community of the Maricopa (Ak Chin) Indian Reservation, Arizona); Gila River Indian Community of the Gila River Indian Reservation, Arizona; Hopi Tribe of Arizona; Salt River Pima-Maricopa Indian Community of the Salt River Reservation, Arizona; Tohono O'odham Nation of Arizona; and Zuni Tribe of the Zuni Reservation, New Mexico.

History and Description of the Remains

In January and February of 1978, human remains representing, at minimum, four individuals were removed from the Van Liere site (NA12552) in Maricopa County, AZ, during archeological investigations conducted by the Museum of Northern Arizona. The Van Liere site (NA12552) is a Hohokam settlement in central Arizona, located north of both the community of Liberty and the confluence of the Salt and Gila Rivers. The cremated human remains represent a minimum of four adults of indeterminate sex, and are comprised of one cranial fragment from Area 4, grid square 16 south, 24 west, level 2; one cranial fragment from Trench 436, backdirt 200; two cranial fragments from Trench 447, unit 2, plow zone; and fragments of one cranium, two vertebrae, and three ribs from Trench 444, backdirt 200. No known individuals were identified. No associated funerary objects are present.

Archeological evidence indicates that the Van Liere site (NA12552) was occupied during the period A.D. 950-1150 by the Hohokam people, for whom cremation was a common mortuary practice. Hopi and Zuni oral traditions also indicate that segments of the prehistoric Hohokam population migrated to areas occupied by the ancestors of the Hopi and Zuni, where they were assimilated into the resident populations. Archeological, historical, and oral tradition evidence indicate that there is a relationship of shared group identity between the Hohokam people and present-day Piman and O'odham cultures, which are represented by the Ak-Chin Indian Community (previously listed as the Ak Chin Indian Community of the Maricopa (Ak Chin) Indian Reservation, Arizona); Gila River Indian Community of the Gila River Indian Reservation, Arizona; Hopi Tribe of Arizona; Salt River Pima-Maricopa Indian Community of the Salt River Reservation, Arizona; Tohono O'odham Nation of Arizona; and Zuni Tribe of the Zuni Reservation, New Mexico.

Determinations Made by the Museum of Northern Arizona

Officials of the Museum of Northern Arizona have determined that:

• Pursuant to 25 U.S.C. 3001(9), the human remains described in this notice represent the physical remains of a minimum of 4 individuals of Native American ancestry.

• Pursuant to 25 U.S.C. 3001(2), there is a relationship of shared group identity that can be reasonably traced between the Native American human remains and the Ak-Chin Indian Community (previously listed as the Ak Chin Indian Community of the Maricopa (Ak Chin) Indian Reservation, Arizona); Gila River Indian Community of the Gila River Indian Reservation, Arizona; Hopi Tribe of Arizona; Salt River Pima-Maricopa Indian Community of the Salt River Reservation, Arizona; Tohono O'odham Nation of Arizona; and Zuni Tribe of the Zuni Reservation, New Mexico.

Additional Requestors and Disposition

Lineal descendants or representatives of any Indian tribe or Native Hawaiian organization not identified in this notice that wish to request transfer of control of these human remains should submit a written request with information in support of the request to Elaine Hughes, Museum of Northern Arizona, 3101 North Fort Valley Road, Flagstaff, AZ 86001, telephone (928) 774-5211 x228, email ehughes@musnaz.org, by April 12, 2017. After that date, if no additional requestors have come forward, transfer of control of the human remains to the Ak-Chin Indian Community (previously listed as the Ak Chin Indian Community of the Maricopa (Ak Chin) Indian Reservation, Arizona); Gila River Indian Community of the Gila River Indian Reservation, Arizona; Hopi Tribe of Arizona; Salt River Pima-Maricopa Indian Community of the Salt River Reservation, Arizona; Tohono O'odham Nation of Arizona; and Zuni Tribe of the Zuni Reservation, New Mexico may proceed.

The Museum of Northern Arizona is responsible for notifying the Ak-Chin Indian Community (previously listed as the Ak Chin Indian Community of the Maricopa (Ak Chin) Indian Reservation, Arizona); Gila River Indian Community of the Gila River Indian Reservation, Arizona; Hopi Tribe of Arizona; Salt River Pima-Maricopa Indian Community of the Salt River Reservation, Arizona; Tohono O'odham Nation of Arizona; and Zuni Tribe of the Zuni Reservation, New Mexico that this notice has been published.

Dated: February 17, 2017.
Melanie O'Brien,
Manager, National NAGPRA Program.

[FR Doc. 2017-04854 Filed 3-10-17; 8:45 am]

BILLING CODE 4312-52-P